DEPARTMENT OF HEALTH AND HUMAN SERVICES

Administration for Children and Families

Notice of Meeting

AGENCY: Office on Trafficking in Persons, Administration for Children and Families, Department of Health and Human Services.

ACTION: Announcement of meeting and call for public comments on states' efforts to improve the nation's response to the sex trafficking of children and youth.

SUMMARY: Notice is hereby given, pursuant to the provisions of the Federal Advisory Committee Act (FACA) and the Preventing Sex Trafficking and Strengthening Families Act, that a meeting of the National Advisory Committee on the Sex Trafficking of Children and Youth in the United States (the Committee) will be held on September 8 and 9, 2021. The purpose of the meeting is for the Committee to begin reviewing responses to the Committee's State Self-Assessment Survey and develop a framework for the Committee's final report. The members of the Committee request comments from the public to inform their ongoing work and final report. Please submit your comments to NAC@nhttac.org with the subject “NAC Comments” as soon as possible and before September 6, 2021.

DATES: The meeting will be held on September 8 and 9, 2021.

ADDRESSES: The meeting will be held virtually. Please register for this event online: https://www.acf.hhs.gov/otip/partnerships/national-advisory-committee.

FOR FURTHER INFORMATION, CONTACT: Katherine Chon (Designated Federal Officer) at EndTrafficking@acf.hhs.gov or (202) 205-5778, or 330 C Street SW, Washington, DC 20201. Additional information is available at https://www.acf.hhs.gov/otip/partnerships/the-national-advisory-committee.

SUPPLEMENTARY INFORMATION: The formation and operation on behalf of the Committee are governed by the provisions of Public Law 92-463, as amended (5 U.S.C. App. 2), which sets forth standards for the formation and use of federal advisory committees.

Purpose of the Committee: The purpose of the Committee is to advise the Secretary and the Attorney General on practical and general policies concerning improvements to the nation's response to the sex trafficking of children and youth in the United States. HHS established the Committee pursuant to Section 121 of the Preventing Sex Trafficking and Strengthening Families Act of 2014 (Pub. L. 113-183).

Tentative Agenda: The agenda can be found at https://www.acf.hhs.gov/otip/partnerships/the-national-advisory-committee. To submit written statements, email NAC@nhttac.org, by September 6, 2021. Please include your name, organization, and phone number. More details on these options are below.

Public Accessibility to the Meeting: Pursuant to 5 U.S.C. 552b and 41 CFR 102-3.140 through 102-3.165, and subject to the availability of space, this meeting is open to the public virtually.

Written Statements: Pursuant to 41 CFR 102-3.105(j) and 102-3.140 and section 10(a)(3) of the Federal Advisory Committee Act, the public may submit written statements in response to the stated agenda of the meeting, or to the Committee's mission, in general. Organizations with recommendations on strategies to engage states and stakeholders are encouraged to submit their comments or resources (hyperlinks preferred). Written comments or statements received after September 6, 2021, may not be provided to the Committee until its next meeting.

Verbal Statements: Pursuant to 41 CFR 102-3.140d, the Committee is not obligated to allow a member of the public to speak or otherwise address the Committee during the meeting. Members of the public are invited to provide verbal statements during the Committee meeting only at the time and manner described in the agenda. The request to speak should include a brief statement of the subject matter to be addressed and should be relevant to the stated agenda of the meeting or the Committee's mission in general.

Minutes: The minutes of this meeting will be available for public review and copying within 90 days at: https://www.acf.hhs.gov/otip/partnerships/the-national-advisory-committee.

Linda Hitt,
Director, Executive Secretariat.

[FR Doc. 2021-17714 Filed 8-17-21; 8:45 am]

BILLING CODE 4184-40-P